DEPARTMENT OF TRANSPORTATION

Federal Aviation Administration

14 CFR Part 71

[Docket FAA No. FAA-2010-1208; Airspace Docket No. 10-ANM-16]

Establishment of Class E Airspace; Lucin, UT

AGENCY: Federal Aviation Administration (FAA), DOT.

ACTION: Final rule; technical amendment.

SUMMARY: This action makes a minor correction to a final rule published in the Federal Register July 8, 2010, that establishes Class E en route domestic airspace for the Lucin VORTAC, Lucin, UT.

DATES: Effective 0901 UTC, February 17, 2011. The Director of the Federal Register approves this incorporation by reference action under 1 CFR part 51, subject to the annual revision of FAA Order 7400.9 and publication of conforming amendments.

FOR FURTHER INFORMATION CONTACT: Eldon Taylor, Federal Aviation Administration, Operations Support Group, Western Service Center, 1601 Lind Avenue, SW., Renton, WA 98057; telephone (425) 203-4537.

SUPPLEMENTARY INFORMATION:

History

In a final rule published in the Federal Register July 8, 2010 (75 FR 39148) Airspace Docket No. 09-ANM-25, the airspace description for the Lucin VORTAC, Lucin, UT, incorrectly referenced the existing Class E en route domestic airspace exclusion above 8,500 feet MSL. As written, the wording may cause confusion as to the exclusion of the existing controlled airspace at 8,500 feet MSL. It should read 8,500 feet and above MSL.

The FAA's Aeronautical Products office correctly charted the airspace and requested the correction be made. Accordingly, since this is an administrative change, and does not involve a change in the dimensions, altitudes, or operating requirements of that airspace, notice and public procedures under 5 U.S.C. 553(b) are unnecessary.

Lists of Subjects in 14 CFR Part 71

Airspace, Incorporation by reference, Navigation (Air).

Technical Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g); 40103, 40113, 40120; E.O. 10854, 24 FR 9565, 3 CFR, 1959-1963 Comp., p. 389.

§ 71.1 [Amended]

2. The incorporation by reference in 14 CFR 71.1 of Federal Aviation Administration Order 7400.9U, Airspace Designations and Reporting Points, dated August 18, 2010, and effective September 15, 2010, is amended as follows:

Paragraph 6006 En Route Domestic Airspace Areas.

* * * * *

ANM UT E6 Lucin, UT [Amended]

Lucin VORTAC

(Lat. 41°21′47″ N., long. 113°50′26″ W.)

That airspace extending upward from 1,200 feet above the surface bounded on the west by V-269; on the east by V-484; and on the south by V-32; excluding existing controlled airspace 8,500 feet MSL and above; excluding that airspace designated for Federal airways; excluding the portions within Restricted Area R-6404 and Lucin MOA during their published hours of designation.

Issued in Seattle, Washington on January 5, 2011.
John Warner,
Manager, Operations Support Group, Western Service Center.

[FR Doc. 2011-593 Filed 1-14-11; 8:45 am]

BILLING CODE 4910-13-P